DEPARTMENT OF TRANSPORTATION

Federal Aviation Administration

July 17, 2018 Drone Advisory Committee (DAC) Meeting

AGENCY: Federal Aviation Administration (FAA), U.S. Department of Transportation.

ACTION: July 17, 2018 DAC Meeting.

SUMMARY: The FAA is issuing this notice to advise the public of the July 17, 2018 DAC Meeting.

DATES: The meeting will be held on July 17, 2018, 9:00 a.m.-4:00 p.m. Pacific Time.

ADDRESSES: The meeting will be held at the Santa Clara Convention Center, Grand Ballroom, Sections G and H, 5001 Great American Parkway, Santa Clara, CA 95054.

FOR FURTHER INFORMATION CONTACT: Members of the public may RSVP for this meeting at DACmeetingRSVP@faa.gov. For other questions about the DAC, please visit www.faa.gov/uas/programs_partnerships/dac/ or contact Chris Harm, Unmanned Aircraft Systems (UAS) Stakeholder and Committee Liaison, at chris.harm@faa.gov or 202-267-5401.

SUPPLEMENTARY INFORMATION: Pursuant to section 10(a)(2) of the Federal Advisory Committee Act (Pub. L. 92-463, 5 U.S.C., App.), notice is hereby given of the July 17, 2018 DAC Meeting. The DAC is a Federal Advisory Committee managed by the FAA. The agenda will likely include, but may not be limited to, the following:

Tuesday, July 17, 2018

• Official Statement of the Designated Federal Officer (DFO)

• Approval of the Agenda

• Chairman's Opening Remarks

• DFO's Opening Remarks

• FAA Update

• Unmanned Aircraft Safety Team Briefing on Safety Data

• Remote Identification

• FAA's UAS Implementation Plan and UAS Integration Research Plan

• New Business/Agenda Topics

• Closing Remarks

• Adjourn

Attendance is open to the interested public. Registration is required and space is limited. With the approval of the chairman, members of the public may present oral statements at the meeting. Persons wishing to present statements or obtain information should contact the person listed in the FOR FURTHER INFORMATION CONTACT section. Members of the public may present a written statement to the committee at any time.

Issued in Washington, DC.
Christopher W. Harm,
Unmanned Aircraft Systems (UAS) Stakeholder and Committee Liaison, AUS-10, UAS Integration Office, FAA.

[FR Doc. 2018-14394 Filed 6-29-18; 11:15 am]

BILLING CODE 4910-13-P